DEPARTMENT OF JUSTICE

[OMB Number 1110-0061]

Agency Information Collection Activities; Proposed eCollection eComments Requested; Approval of an Extension of a Currently Approved Collection; Request To Change III/NGI Base Identifier(s) (1-542)

AGENCY: Federal Bureau of Investigation, Department of Justice.

ACTION: 60-Day Notice.

SUMMARY: The Department of Justice (DOJ), Federal Bureau of Investigation (FBI), Criminal Justice Information Services (CJIS) Division, will be submitting the following information collection request to the Office of Management and Budget (OMB) for review and approval in accordance with the Paperwork Reduction Act of 1995.

DATES: Comments are encouraged and will be accepted for 60 days until August 10, 2015.

FOR FURTHER INFORMATION CONTACT: If you have additional comments especially on the estimated public burden or associated response time, suggestions, or need a copy of the proposed information collection instrument with instructions or additional information, please contact Gerry Lynn Brovey, Supervisory Information Liaison Specialist, FBI, CJIS, Resources Management Section, Administrative Unit, Module C-2, 1000 Custer Hollow Road, Clarksburg, West Virginia 26306 (facsimile: 304-625-5093).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

— Minimize the burden of the collection of information on those who are to respond, including through the use of appropriate automated, electronic, mechanical, or other technological collection techniques or other forms of information technology, e.g., permitting electronic submission of responses.

Overview of this information collection:

(1) Type of Information Collection: Extension of a currently approved collection.

(2) The Title of the Form/Collection: Request to Change III/NGI Base Identifier(s).

(3) The agency form number, if any, and the applicable component of the Department sponsoring the collection: 1-542.

(4) Affected public who will be asked or required to respond, as well as a brief abstract: Primary: City, county, state, federal and tribal law enforcement agencies. This collection is needed to report completion of an identity history summary. Acceptable data is stored as part of the Next Generation Identification (NGI) system of the FBI.

(5) An estimate of the total number of respondents and the amount of time estimated for an average respondent to respond: It is estimated that approximately 114,000 agencies will complete each form within fifteen minutes.

(6) An estimate of the total public burden (in hours) associated with the collection: There are an estimated 28,500 total annual burden hours associated with this collection.

If additional information is required contact: Jerri Murray, Department Clearance Officer, United States Department of Justice, Justice Management Division, Policy and Planning Staff, Two Constitution Square, 145 N Street NE., 3E.405B, Washington, DC 20530.

Dated: June 8, 2015.
Jerri Murray,
Department Clearance Officer for PRA, U.S. Department of Justice.

[FR Doc. 2015-14281 Filed 6-10-15; 8:45 am]

BILLING CODE 4410-02-P